DEPARTMENT OF HEALTH AND HUMAN SERVICES

National Institutes of Health

National Institute of Neurological Disorders and Stroke; Amended Notice of Meeting

Notice is hereby given of a change in the meeting of the National Institute of Neurological Disorders and Stroke Special Emphasis Panel, November 27, 2023, 09:00 a.m. to November 29, 2023, 06:00 p.m., Crowne Plaza National Airport, 1480 Crystal Drive, Arlington, VA 22202 which was published in the Federal Register on September 25, 2023, 88 FR 67334.

This notice is being amended to change the location to Canopy by Hilton, 940 Rose Avenue, North Bethesda, MD 20852, and change the meeting times to 10:00 a.m. to 6:00 p.m. The meeting dates remains the same. The meeting is closed to the public.

Dated: November 13, 2023.
David W. Freeman,
Supervisory Program Analyst, Office of Federal Advisory Committee Policy.

[FR Doc. 2023-25403 Filed 11-16-23; 8:45 am]

BILLING CODE 4140-01-P